DEPARTMENT OF TRANSPORTATION

Federal Railroad Administration

[Docket No. FRA-2019-0004-N-2]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Requests (ICRs) abstracted below. Before submitting these ICRs to the Office of Management and Budget (OMB) for approval, FRA is soliciting public comment on specific aspects of the activities identified below.

DATES: Interested persons are invited to submit comments on or before April 23, 2019.

ADDRESSES: Submit written comments on the ICRs activities by mail to either: Mr. Robert Brogan, Information Collection Clearance Officer, Office of Railroad Safety, Regulatory Analysis Division, Federal Railroad Administration, 1200 New Jersey Avenue SE, Room W33-497, Washington, DC 20590; or Ms. Kim Toone, Information Collection Clearance Officer, Office of Information Technology, Federal Railroad Administration, 1200 New Jersey Avenue SE, Room W34-212, Washington, DC 20590. Commenters requesting FRA to acknowledge receipt of their respective comments must include a self-addressed stamped postcard stating, “Comments on OMB Control Number 2130-XXXX,” (the relevant OMB control number for each ICR is listed below) and should also include the title of the ICR. Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, Federal Railroad Administration, 1200 New Jersey Avenue SE, Room W33-497, Washington, DC 20590 (telephone: (202) 493-6292) or Ms. Kim Toone, Information Collection Clearance Officer, Office of Information Technology, Federal Railroad Administration, 1200 New Jersey Avenue SE, Room W34-212, Washington, DC 20590 (telephone: (202) 493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICRs regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summaries below describe the ICRs that FRA will submit for OMB clearance as the PRA requires:

Title: Safety Appliance Standards Guidance Checklist Forms.

OMB Control Number: 2130-0565.

Abstract: Sample car/locomotive inspections are performed upon request as a courtesy to the car manufacturers to ensure that the equipment is built in accordance with the Code of Federal Regulations (CFR). Car manufacturers that desire to have FRA review their equipment for compliance with the CFR, may submit their request to FRA for review at least 60 days prior to initial construction. Although a sample car inspection is not required, most car manufacturers today request the inspection. By helping ensure that rolling stock equipment is built compliant with the CFR, the sample car inspection program reduces the safety risk to railroad employees, passengers, and the general public.

In an ongoing effort to conduct more thorough and effective inspections of freight railroad equipment and to further enhance safe rail operations, FRA has developed a group of guidance checklist forms that facilitate railroad, rail car owner, and rail equipment manufacturer compliance with 49 CFR part 231, Railroad Safety Appliance Standards. Because 49 CFR part 231 was supplemented and expanded several years ago, FRA developed Forms FRA F 6180.161(a)-(k) to cover new types of cars. For these new types of cars, FRA follows the standard established by the Association of American Railroads (AAR), Standard 2044 or S-2044.

A car manufacturer's request to FRA for a sample car inspection generally includes a logo, company name, signature block, specific drawings, reflectorization application, and engineering information, such as test or modeling of components. In addition, the request may include car reporting marks and the number of cars that would be constructed in the car series. The request would also provide the inspection location, contact person, title, and contact information. The request typically contains several paragraphs explaining the cited regulations that the car manufacturer believes are related to the car construction. For the many cars built today considered cars of special construction, detailed information explaining the similarities between the car being built and the nearest car type identified in the regulation are provided to help determine which regulatory requirements are applicable. Based on the information submitted, a formal on-site inspection may be required. FRA reviews the information and responds to the car manufacturer.

Type of Request: Extension without change of a currently approved information collection.

Affected Public: Businesses.

Form(s): FRA F 6180.161(a)-(k).

Respondent Universe: Car manufacturers/State Inspectors.

¹ The hourly wage rate to calculate the dollar cost equivalent for customers and state employees amounts to $61.20 per hour, which includes an hourly wage rate of $42.84 plus an hourly benefit of $18.34. FRA obtained this information from the Department of Labor, Bureau of Labor Statistics (BLS), Occupational Employment Statistics (OES) 11-3011, classified within NAICS 999200, State Government—excluding schools and hospitals. See https://www.bls.gov/oes/current/naics4_999200.htm.

Frequency of Submission: Annually.

Reporting Burden:

Form | Respondent universe | Total annual responses | Average time per response (minutes) | Total annual burden hours | Total annual dollar cost equivalent ¹
Form FRA F 6180.161a | Car manufacturers/State Inspectors | 20 forms | 60 | 20 | $1,224
Form FRA F 6180.161b | Car manufacturers/State Inspectors | 7 forms | 60 | 7 | 428
Form FRA F 6180.161c | Car manufacturers/State Inspectors | 15 forms | 60 | 15 | 918
Form FRA F 6180.161d | Car manufacturers/State Inspectors | 15 forms | 60 | 15 | 918
Form FRA F 6180.161e | Car manufacturers/State Inspectors | 15 forms | 60 | 15 | 918
Form FRA F 6180.161f | Car manufacturers/State Inspectors | 10 forms | 60 | 10 | 612
Form FRA F 6180.161g | Car manufacturers/State Inspectors | 3 forms | 60 | 3 | 184
Form FRA F 6180.161h | Car manufacturers/State Inspectors | 3 forms | 60 | 3 | 184
Form FRA F 6180.161i | Car manufacturers/State Inspectors | 20 forms | 60 | 20 | 1,224
Form FRA F 6180.161j | Car manufacturers/State Inspectors | 3 forms | 60 | 3 | 184
Form FRA F 6180.161a | Car manufacturers/State Inspectors | 10 forms | 60 | 10 | 612

Total Estimated Annual Responses: 121.

Total Estimated Annual Burden: 121 hours.

Total Estimated Annual Burden Hour Dollar Cost Equivalent: $7,406.

Title: System for Telephonic Notification of Unsafe Conditions at Highway-Rail and Pathway Grade Crossings.

OMB Control Number: 2130-0591.

Abstract: The collection of information is set forth under 49 CFR part 234, Grade Crossing Safety, implementing Section 205 of the Rail Safety Improvement Act of 2008 (RSIA), Public Law 110-432, Div. A (Oct. 16, 2008). Generally, the rule is intended to increase safety at highway-rail and pathway grade crossings. Section 205 of the RSIA mandates that the Secretary of Transportation require certain railroad carriers to take a series of specified actions related to setting up and using systems by which the public can notify the railroads by toll-free telephone number of safety problems at their highway-rail and pathway grade crossings. Such systems are commonly known as Emergency Notification Systems or ENS. The information collected is used by FRA to ensure that railroad carriers establish and maintain a toll-free telephone service to report unsafe conditions at public and private highway-rail and pathway grade crossings for rights-of-way over which they dispatch trains.

Type of Request: Extension with change (revised estimates) of a currently approved information collection.

Affected Public: Businesses.

Form(s): N/A.

Respondent Universe: 625 Railroads.

Frequency of Submission: On occasion.

Reporting Burden:

CFR section | Respondent universe | Total annual responses | Average time per response | Total annual burden hours | Total annual dollar cost equivalent ²
234.303(c)—Receipt by dispatching RR of report of unsafe condition at highway-rail grade crossing | 625 railroads | 63,891 reports | 1 minute | 1,065 | $28,755
—(d)—Receipt by dispatching RR of report of unsafe condition at pathway grade crossing | 625 railroads | 1,860 reports/1,860 records | 1 minute + 1 minute | 62 | 4,526
234.305(a)(2)—Prompt contact by dispatching RR not having maintenance responsibility of all trains authorized to operate through the crossing in response to credible report of warning system malfunction at highway-rail grade crossing | 625 railroads | 465 contacts | 1 minute | 8 | 576
—(a)(2)—Contact of crossing maintenance RR by dispatching RR not having maintenance responsibility in response to credible report of warning system malfunction at highway-rail grade crossing | 625 railroads | 465 contacts + 465 records | 1 minute + 1 minute | 16 | 1,168
—(b)(1)—In response to public report of warning system malfunction at highway-rail grade crossing, prompt contact by dispatching RR having maintenance duty for crossing of all trains authorized to operate through that crossing | 625 railroads | 925 contacts + 925 records | 1 minute + 1 minute | 31 | 2,232
—Dispatching RR having maintenance duty for crossing contact of appropriate law enforcement authority with necessary information regarding reported malfunction | 625 railroads | 925 contacts | 1 minute | 15 | 1,095
234.305(b)(2)—In response to public report of warning system malfunction at highway-rail grade crossing, prompt contact by dispatching RR not having maintenance duty for that crossing of all trains authorized to operate through that crossing | 625 railroads | 920 contacts | 1 minute | 15 | 1,095
—Dispatching RR contact of law enforcement authority to direct traffic/maintain safety | 625 railroads | 920 contacts | 1 minute | 15 | 1,095
—Dispatching RR contact of maintaining RR re: reported malfunction and maintaining record of unsafe condition | 625 railroads | 920 contacts + 920 records | 1 minute + 1 minute | 31 | 2,263
—(c)(1)-In response to report of warning system failure at pathway grade crossing, dispatching RR having maintenance duty contacts all trains authorized to operate through it and record unsafe condition | 625 railroads | 2 contacts + 2 records | 1 minute | .06666 | 5
—(c)(1)-Dispatching RR having maintenance duty for crossing contact of law enforcement authority to direct traffic/maintain safety after above report | 625 railroads | 2 contacts | 1 minute | .03333 | 2
234.305(d)(1)—Dispatching RR having maintenance authority contact of all trains operating through highway-rail or pathway grade crossing after report of disabled vehicle/other obstruction | 625 railroads | 7,440 contacts + 7,440 unsafe condition records | 1 minute + 1 minute | 248 | 17,980
—Dispatching RR having maintenance duty contact of law enforcement authority after report of disabled vehicle/other obstruction | 625 railroads | 7,440 contacts | 1 minute | 124 | 9,052
(d)(2)—Dispatching RR not having maintenance authority contact of all trains operating through highway-rail or pathway grade crossing after report of disabled vehicle/other obstruction | 625 railroads | 2,556 contacts | 1 minute | 43 | 3,066
—Dispatching RR not having maintenance authority contact of law enforcement authority after report of disabled vehicle/other obstruction | 625 railroads | 2,556 contacts | 1 minute | 43 | 3,139
—Dispatching RR contact of maintaining RR regarding report of disabled vehicle/other obstruction and maintaining record of reported obstruction | 625 railroads | 2,556 contacts + 2,556 records | 1 minute + 1 minute | 86 | 6,278
(h)—Provision of contact information by maintaining RR to dispatching RR for reports of unsafe conditions at highway-rail and pathway grade crossings | 625 railroads | 10 contacts | x1 minute | .1667 | 12
234.306(a)—Appointment of one dispatching RR as primary dispatching RR where multiple RRs dispatch trains through the same highway-rail and pathway grade crossing to provide info. for ENS sign | 625 railroads | 50 indications/records | 60 minutes | 50 | 3,650
(b)—Appointment of one maintaining RR as primary maintaining RR where multiple RRs dispatch trains through the same highway-rail and pathway grade crossing to place and maintain ENS sign | 625 railroads | 50 indications/records | 60 minutes | 50 | 3,650
234.307(b)—Third-party telephone service report of unsafe condition at highway-rail or pathway grade crossing to maintaining RR and maintaining RR record of unsafe condition | 625 railroads | 50 reports + 50 records | 1 minute + 1 minute | 2 | 146
(c)—Third-party telephone service report to dispatching RR of unsafe condition | 625 railroads | 50 reports | 1 minute | 1 | 73
(d)(1)—Provision of contact information to third-party telephone service to receive reports of unsafe condition at highway-rail or pathway grade crossings | 625 railroads | 5 contact calls | 15 minutes | 1 | 73
(d)(2)—Written notice by RR to FRA of intent to use third-party service | 625 railroads | 5 letters | 60 minutes | 5 | 365
(d)(3)—RR written notification by RR of any changes in use or discontinuance of third-party service | 625 railroads | 1 letter | 60 minutes | 1 | 73
234.309(a)—ENS Signs—General—Provision of ENS telephone number to maintaining RR by dispatching RR if two RRs are not the same | 625 railroads | 10 contacts | 30 minutes | 5 | 365
234.311(c)—Repair or replacement of ENS after discovery by responsible railroad of missing, damaged, or otherwise unusable/illegible sign to vehicular/pedestrian traffic | 625 railroads | 4,000 signs | 15 minutes | 1,000 | 66,000
234.313—Recordkeeping—Records of reported unsafe conditions pursuant to § 234.303 | 625 railroads | 186,000 signs | 4 minutes | 12,400 | 905,200

Total Estimated Annual Responses: 298,292.

² FRA consulted AAR publication Railroad Facts, 2017 (p.57), to calculate the dollar equivalent cost for burden hours associated with this particular information collection. The hourly wage rate for each appropriate employee group is burdened with 75-percent overhead costs. The two most common employee groups for this table pertain to professional/administrative staff and transportation, other than train and engine. The hourly wage for the first group is $73 per hour ($41.97 plus 75-percent overhead costs), and the hourly wage rate for the second group is $72 per hour ($42.27 plus 75-percent overhead costs). FRA used an hourly rate of $27 per hour for the value of the public's time.

Total Estimated Annual Burden: 15,305 hours.

Total Estimated Annual Burden Hour Dollar Cost Equivalent: $1,091,934.

Title: Control of Alcohol and Drug Use in Railroad Operations: Addition of Post-Accident Toxicological Testing for Non-Controlled Substances.

OMB Control Number: 2130-0598.

Abstract: Since 1985, as part of its accident investigation program, FRA has conducted post-accident alcohol and drug tests on railroad employees who have been involved in serious train accidents (50 FR 31508, Aug. 2, 1985). If an accident meets FRA's criteria for post-accident testing (see 49 CFR 219.201), FRA conducts tests for alcohol and for certain drugs classified as controlled substances under the Controlled Substances Act (CSA), Title II of the Comprehensive Drug Abuse Prevention Substances Act of 1970 (CSA, 21 U.S.C. 801 et seq.). The Drug Enforcement Agency, which is primarily responsible for enforcing the CSA, oversees the classification of controlled substances into five schedules. Schedule I contains illicit drugs, such as heroin, which has no legitimate medical use under Federal law. Currently, FRA routinely conducts post-accident tests for: Marijuana, cocaine, phencyclidine, and certain opiates, amphetamines, barbiturates, and benzodiazepines. Controlled substances are drugs or chemicals that are prohibited or strictly regulated because of their potential for abuse or addiction.

Since its inception, FRA's post-accident testing program has had the ability to test for “other impairing substances specified by FRA as necessary to the particular accident investigation.” See 49 CFR 219.211(a). This flexibility allows FRA to conduct post-accident tests for any substance (e.g., carbon monoxide) that its preliminary investigation shows may have played a role in an accident. Because FRA research indicates that prescription and over-the-counter (OTC) drug use has become prevalent among railroad employees, FRA has added sedating antihistamines, a commonly used category of OTC drugs, to its standard post-accident testing panel to determine whether use of these drugs contributes to the cause or severity of train accidents.

FRA uses its post-accident testing data for monitoring, research, and accident investigation purposes. Research generated by post-accident testing data may result in the addition of other non-controlled substances to FRA's standard post-accident testing panel.

Type of Request: Extension with change (revised estimates) of a currently approved information collection.

Affected Public: Businesses.

Form(s): N/A.

Respondent Universe: 692 Railroads.

Frequency of Submission: On occasion.

Reporting Burden:

³ Again, as noted in the footnote above, FRA consulted the AAR publication Railroad Facts, 2017 (p. 57) to determine the hourly wage rate for the dollar equivalent cost of the specified burden hours. FRA used the hourly wage rate of $62.98 for executives, officials, and staff assistants plus 75-percent overhead costs. Thus, the hourly wage rate for this group comes to $110.

CFR section | Respondent universe | Total annual responses | Average time per response | Total annual burden hours | Total annual dollar cost equivalent ³
219.211(a)(b)(c)—RR Medical Review Officer (MRO) review of employee post-accident toxicological testing result reported as positive for alcohol or a controlled substance by designated laboratory and MRO report to FRA of Review Results | 692 railroads | 9 reports + 9 report copies | 15 minutes + 5 minutes | 3 | $330

Total Estimated Annual Responses: 18.

Total Estimated Annual Burden: 3 hours.

Total Estimated Annual Burden Hour Dollar Cost Equivalent: $330.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Acting Chief Counsel.

[FR Doc. 2019-03050 Filed 2-21-19; 8:45 am]

BILLING CODE 4910-06-P